DEPARTMENT OF ENERGY

Federal Energy Regulatory Commission

[Project No. 9088-050]

Lower Village Hydroelectric Associates, L.P., Sugar River Power LLC; Notice of Application for Transfer of License and Soliciting Comments, Motions To Intervene, and Protests

On September 15, 2016, Lower Village Hydroelectric Associates, L.P. (transferor) and Sugar River Power LLC (transferee) filed an application for the transfer of license of the Lower Village Project No. 9088. The project is located on the Sugar River in Sullivan County, New Hampshire.

The applicants seek Commission approval to transfer the license for the Lower Village Project from Lower Village Hydroelectric Associates, L.P. to Sugar River Power LLC.

Applicants Contact: For transferor: Mr. John Webster, General Partner, Lower Village Hydroelectric Associates, L.P., P.O. Box 178, South Berwick, ME 03908, Email: hydromagnt@gwi.net. For transferee: Mr. Robert King, Manager, Sugar River Power LLC, 42 Hurricane Road, Keene, NH 03431, Phone: 603-352-3444, Email: bking31415@gmail.com and Ms. Elizabeth W. Whittle, Nixon Peabody, LLP, 799 Ninth Street NW., Suite 500, Washington, DC 20004, Phone: 202-585-8338, Email: ewhittle@nixonpeabody.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-9088-050.

Dated: October 4, 2016.
Kimberly D. Bose,
Secretary.

[FR Doc. 2016-24470 Filed 10-7-16; 8:45 am]

BILLING CODE 6717-01-P